ENVIRONMENTAL PROTECTION AGENCY

40 CFR Part 60

[FRL-6942-8]

RIN 2060-AG22

Amendments to Standards of Performance for New Stationary Sources; Monitoring Requirements: Delay of Effective Date

AGENCY: Environmental Protection Agency (EPA).

ACTION: Final Rule; Delay of Effective Date.

SUMMARY: In accordance with the memorandum of January 20, 2001, from the Assistant to the President and Chief of Staff, entitled “Regulatory Review Plan,” published in the Federal Register on January 24, 2001, this action temporarily delays for 60 days the effective date of the rule entitled Amendments to Standards of Performance for New Stationary Sources; Monitoring Requirements, published in the Federal Register on August 10, 2000, 65 FR 48914. That rule concerns revising monitoring requirements to Performance Specification 1 (PS-1) of appendix B to part 60. The revisions clarify and update requirements for source owners and operators who must install and use continuous stack or duct opacity monitoring equipment. The revisions also update design and performance validation requirements for continuous opacity monitoring system (COMS) equipment in appendix B, PS-1.

DATES: The effective date of the final rule amendments to standards of performance for new stationary sources; monitoring requirements, published in the Federal Register on August 10, 2000, at 65 FR 48914, is delayed for 60 days, from February 6, 2001, to a new effective date of April 9, 2001.

FOR FURTHER INFORMATION CONTACT: Mr. David Mobley, Acting Director, Emissions, Monitoring, and Analysis Division, (919) 541-5536.

SUPPLEMENTARY INFORMATION: To the extent that 5 U.S.C. 553 applies to this action, it is exempt from notice and comment because it constitutes a rule of procedure under 5 U.S.C. 553(b)(A). Alternatively, the Agency's implementation of this action without opportunity for public comment, effective immediately upon publication today in the Federal Register, is based on the good cause exceptions in 5 U.S.C. 553(b)(B) and 553(d)(3), in that seeking public comment is impracticable, unnecessary and contrary to the public interest. The temporary 60-day delay in effective date is necessary to give Agency officials the opportunity for further review and consideration of new regulations, consistent with the Assistant to the President's memorandum of January 20, 2001. Given the imminence of the effective date, seeking prior public comment on this temporary delay would have been impractical, as well as contrary to the public interest in the orderly promulgation and implementation of regulations. The imminence of the effective date is also good cause for making this rule immediately effective upon publication.

Dated: February 2, 2001.
Christine Todd Whitman,
Administrator.

[FR Doc. 01-3200 Filed 2-5-01; 8:45 am]

BILLING CODE 6560-50-P